DEPARTMENT OF HEALTH AND HUMAN SERVICES

Administration for Children and Families

Office of Child Support Enforcement; Privacy Act of 1974; Computer Matching Agreement

AGENCY: Office of Child Support Enforcement (OCSE), ACF, HHS.

ACTION: Notice of a computer matching program.

SUMMARY: In accordance with the Privacy Act of 1974 (5 U.S.C. 522a), as amended, OCSE is publishing notice of a computer matching program between OCSE and state agencies administering the Temporary Assistance for Needy Families (TANF) program.

DATES: HHS invites interested parties to review, submit written data, comments, or arguments to the agency about the matching program until June 28, 2010. As required by the Privacy Act (5 U.S.C. 552a(r)), HHS on May 21, 2010, sent a report of a Computer Matching Program to the Committee on Homeland Security and Governmental Affairs of the Senate, the Committee on Oversight and Government Reform of the House of Representatives, and the Office of Information and Regulatory Affairs of the Office of Management and Budget (OMB). The matching program effective date is estimated to be July 13, 2010.

ADDRESSES: Interested parties may submit written comment on this notice by writing to Linda Deimeke, Director, Division of Federal Systems, Office of Automation and Program Operations, Office of Child Support Enforcement, Administration for Children and Families, 370 L'Enfant Promenade, SW., Washington, DC 20447. Comments received will be available for public inspection at this address from 9 a.m. to 5 p.m. Monday through Friday. Comments may also be submitted electronically via the Internet at: http://www.regulations.gov.

FOR FURTHER INFORMATION CONTACT: Linda Deimeke, Director, Division of Federal Systems, Office of Automation and Program Operations, Office of Child Support Enforcement, Administration for Children and Families, 370 L'Enfant Promenade, SW., Washington, DC 20447; telephone (202) 401-5439.

SUPPLEMENTARY INFORMATION: The Privacy Act of 1974 (5 U.S.C. 552a), as amended, provides for certain protections for individuals applying for and receiving federal benefits. The law governs the use of computer matching by federal agencies when records in a system of records are matched with other federal, state or local government records. The Privacy Act requires agencies involved in computer matching programs to:

1. Negotiate written agreements with the other agency or agencies participating in the matching programs;

2. Provide notification to applicants and beneficiaries that their records are subject to matching;

3. Verify information produced by such matching program before reducing, making a final denial of, suspending, or terminating an individual's benefits or payments;

4. Publish notice of the computer matching program in the Federal Register;

5. Furnish reports about the matching program to Congress and OMB; and

6. Obtain the approval of the matching agreement by the Data Integrity Board of any federal agency participating in a matching program.

This matching program meets these requirements.

Dated: May 17, 2010.
Vicki Turetsky,
Commissioner, Office of Child Support Enforcement.

Notice of Computer Matching Program

A. Participating Agencies

The participating agencies are OCSE, which is the “recipient agency,” and state agencies administering TANF programs, which are the “source agencies.”

B. Purpose of the Matching Program

The purpose of the matching program is to provide new hire, unemployment insurance (UI), and quarterly wage (QW) information from OCSE's National Directory of New Hires (NDNH) to state agencies administering TANF programs for the purpose of verifying the eligibility of adult TANF recipients residing in the state and, if ineligible, to take such action as may be authorized by law and regulation. State agencies administering the TANF programs may also use the NDNH information for the purpose of updating the recipients' reported participation in work activities and updating contact information of recipients and their employers.

C. Authority for Conducting the Match

The authority for conducting the matching program is contained in section 453(j)(3) of the Social Security Act (42 U.S.C. 653(j)(3)).

D. Categories of Individuals Involved and Identification of Records Used in the Matching Program

The categories of individuals involved in the matching program are adult recipients of benefits under TANF programs administered by state agencies. The system of records maintained by OCSE from which records will be disclosed for the purpose of this matching program is the “Location and Collection System” (LCS), No. 09-90-0074, last published in the Federal Register at 72 FR 51446 on September 7, 2007. The LCS includes the NDNH, which contains new hire, QW, and UI information. Disclosures of NDNH information to the state agencies administering TANF programs is a “routine use” under this system of records. Records resulting from the matching program and which are disclosed to state agencies administering TANF programs include names, Social Security numbers, home addresses, and employment information.

E. Inclusive Dates of the Matching Program

The computer matching agreement will be effective and matching activity may commence the later of the following: (1) July 13, 2010; (2) 30 days after this Notice is published in the Federal Register; or (3) 40 days after OCSE sends a report of the matching program to the Congressional committees of jurisdiction under 5 U.S.C. 552a(o)(2)(A) and to OMB, unless OMB disapproves the agreement within the 40-day review period or grants a waiver of 10 days of the 40-day review period. The matching agreement will remain in effect for 18 months from its effective date, unless one of the parties to the agreement advises the other by written request to terminate or modify the agreement. The agreement is subject to renewal by the HHS Data Integrity Board for 12 additional months if the matching program will be conducted without any change and each party to the agreement certifies to the Board in writing that the program has been conducted in compliance with the agreement.

[FR Doc. 2010-12750 Filed 5-26-10; 8:45 am]

BILLING CODE P